SECURITIES AND EXCHANGE COMMISSION

Sunshine Act Meeting

Federal Register Citation of Previous Announcement: [71 FR 50109, August 24, 2006].

Status: Closed Meeting.

Place: 100 F Street, NW., Washington, DC.

Date and Time of Previously Announced Meeting: Tuesday, August 29, 2006 at 10 a.m.

Change in the Meeting: Deletion of Item.

The following item will not be considered during the Closed Meeting on Tuesday, August 29, 2006:

Requests for information in an investigative file.

The Commission determined that no earlier notice thereof was possible.

At times, changes in Commission priorities require alterations in the scheduling of meeting items. For further information and to ascertain what, if any, matters have been added, deleted or postponed, please contact the Office of the Secretary at (202) 551-5400.

Dated: August 29, 2006.
Nancy M. Morris,
Secretary.

[FR Doc. 06-7387 Filed 8-29-06; 3:42 pm]

BILLING CODE 8010-01-P